DEPARTMENT OF COMMERCE

Foreign-Trade Zones Board

[Docket 34-2004]

Proposed Foreign-Trade Zone—Conroe (Montgomery County), Texas Extension of Comment Period

The comment period for the application to establish a general-purpose foreign-trade zone in Conroe (Montgomery County), Texas, submitted by the City of Conroe, Texas (69 FR 51060, 8/17/04), is being extended to November 19, 2004 to allow interested parties additional time in which to comment. Rebuttal comments may be submitted until December 6, 2004. Submissions (original and 3 copies) shall be addressed to the Board's Executive Secretary at one of the following addresses:

1. Submissions via Express/Package Delivery Services: Foreign-Trade Zones Board, U.S. Department of Commerce, Franklin Court Building-Suite 4100W, 1099 14th St., NW., Washington, DC 20005; or

2. Submissions via U.S. Postal Service: Foreign-Trade Zones Board, U.S. Department of Commerce, FCB-Suite 4100W, 1401 Constitution Ave., NW., Washington, DC 20230.

Dated: October 13, 2004.
Dennis Puccinelli,
Executive Secretary.

[FR Doc. 04-23476 Filed 10-19-04; 8:45 am]

BILLING CODE 3510-DS-P